DEPARTMENT OF ENERGY

Federal Energy Regulatory Commission

[Project No. 10489-020]

City of River Falls Municipal Utilities; Notice of Intent To Prepare an Environmental Assessment

On August 26, 2021, the City of River Falls Municipal Utilities (City of River Falls) filed an application for a subsequent minor license for the 250-kilowatt River Falls Hydroelectric Project (River Falls Project; FERC No. 10489). The River Falls Project is located on the Kinnickinnic River in the City of River Falls in Pierce County, Wisconsin. The project does not occupy federal lands.

In accordance with the Commission's regulations, on March 2, 2022, Commission staff issued a notice that the project was ready for environmental analysis (REA Notice). Based on the information in the record, including comments filed on the REA Notice, staff does not anticipate that licensing the project would constitute a major federal action significantly affecting the quality of the human environment. Therefore, staff intends to prepare an Environmental Assessment (EA) on the application to relicense the River Falls Project.

The EA will be issued and circulated for review by all interested parties. All comments filed on the EA will be analyzed by staff and considered in the Commission's final licensing decision.

The application will be processed according to the following schedule. Revisions to the schedule may be made as appropriate.

¹ The Council on Environmental Quality's (CEQ) regulations under 40 CFR 1501.10(b)(1) require that EAs be completed within 1 year of the federal action agency's decision to prepare an EA. This notice establishes the Commission's intent to prepare an EA for the River Falls Project. Therefore, in accordance with CEQ's regulations, the EA must be issued within 1 year of the issuance date of this notice.

Milestone | Target date
Commission issues EA | January 2023.¹
Comments on EA | February 2023.

Any questions regarding this notice may be directed to Michael Davis at (202) 502-8339 or michael.davis@ferc.gov.

Dated: May 6, 2022.
Kimberly D. Bose,
Secretary.

[FR Doc. 2022-10202 Filed 5-11-22; 8:45 am]

BILLING CODE 6717-01-P